DEPARTMENT OF LABOR

Job Accommodation Network

AGENCY: Office of Disability Employment Policy, Department of Labor.

Announcement Type: New Notice of Availability of Funds and Solicitation for Grant Applications (SGA) for Cooperative Agreements. The full announcement is posted on http://www.grants.gov.

Funding Opportunity Number: SGA-12-03.

Key Dates: The closing date for receipt of applications is July 18, 2012.

Funding Opportunity Description

The U.S. Department of Labor (DOL or Department), Office of Disability Employment Policy (ODEP) announces the availability of approximately $2.5 million to fund a cooperative agreement to manage and operate its Job Accommodation Network (JAN), a national technical assistance center that facilitates the employment and retention of workers with disabilities. Created in 1983, JAN is the most comprehensive job accommodation resource available. It is the leading source of free, expert, and confidential one-on-one guidance on workplace accommodations, the Americans with Disabilities Amendment Act of 2008 (ADAA) and related legislation, and self-employment and entrepreneurship options for people with disabilities. JAN provides technical assistance via phone, email and chat, and maintains a Web site containing online resources and publications. Technical assistance regarding individualized job accommodations and workplace strategies for job applicants and employees with disabilities is provided to private and federal sector employers, people with disabilities including disabled veterans, employment service providers, educational institutions and others. JAN develops and conducts trainings both in person and electronically (web-based and telephonic); works in collaboration with businesses, professional organizations, federal agencies and others on effective practices and other issues related to accommodations in the workplace; and engages in outreach to the public about its services. JAN establishes and maintains effective working relationships and collaborations with outside entities with the goal of sharing knowledge and promoting the adoption and implementation of ODEP policies and effective practices. JAN also conducts research and collects and analyzes data related to the cost and effectiveness of workplace accommodations and provides data that contribute to ODEP's annual performance measures and the development of its policies.

Funding of $2.5 million will be awarded through a competitive process for a 12-month period of performance, with the possibility of up to four option years of funding depending on the availability of funds and satisfactory performance.

This solicitation provides background information, describes the application submission requirements, outlines the process that eligible entities must use to apply for funds covered by this solicitation, and outlines the evaluation criteria used as a basis for selecting the grantee.

The full Solicitation for Grant Applications is posted on www.grants.gov under U.S. Department of Labor/ODEP. Applications submitted through www.grants.gov or hard copy will be accepted. If you need to speak to a person concerning these grants, you may telephone Cassandra Mitchell, Grant Officer, at 202-693-4570 (not a toll-free number). If you have issues regarding access to the www.grants.gov Web site, you may telephone the Contact Center Phone at 1-800-518-4726.

Signed in Washington, DC, this 14th day of June 2012.
Cassandra R. Mitchell,
Grant Officer.

[FR Doc. 2012-15952 Filed 6-28-12; 8:45 am]

BILLING CODE 4510-FT-P